DEPARTMENT OF THE INTERIOR

Geological Survey

National Cooperative Geologic Mapping Program (NCGMP) Advisory Committee

AGENCY: U.S. Geological Survey.

ACTION: Notice of meeting.

SUMMARY: Pursuant to Public Law 106-148, the NCGMP Advisory Committee will meet in Room 7000A of the Main Interior Building, 1849 C. Street, NW., Washington, DC. The Advisory Committee, composed of scientists from Federal Agencies, State Agencies, academic institutions, and private companies, will advise the Director of the U.S. Geological Survey on planning and implementation of the geologic mapping program.

Topics to be reviewed and discussed by the Advisory Committee include the:

• Progress of the NCGMP towards fulfilling the purposes of the National Geological Mapping Act of 1992.

• Updates on the Federal, State, and educational components of the NCGMP.

• Report from the Subcommittee on a implementation plan for the National Geological and Geophysical Data Preservation Program.

DATES: June 12-13, 2006 commencing at 9 a.m. on June 12 and adjourning by 5 p.m. on June 13.

FOR FURTHER INFORMATION CONTACT: Laurel M. Bybell, U.S. Geological Survey, 908 National Center, Reston, Virginia 20192 (703) 648-5281.

SUPPLEMENTARY INFORMATION: Meetings of the National Cooperative Geological Mapping Program Advisory Committee are open to the Public.

Dated: May 16, 2006.
Linda C. Gundersen,
Acting Associate Director for Geology.

[FR Doc. 06-4749 Filed 5-22-06; 8:45 am]

BILLING CODE 4311-AM-M